Title 3—

The President

Executive Order 13907 of February 28, 2020

Establishment of the Interagency Environment Committee for Monitoring and Enforcement Under Section 811 of the United States-Mexico-Canada Agreement Implementation Act

By the authority vested in me as President by the Constitution and the laws of the United States of America, including section 301 of title 3, United States Code, and section 811 of the United States-Mexico-Canada Agreement Implementation Act (Act) (Public Law 116-113), it is hereby ordered as follows:

Section 1. Establishment of Interagency Environment Committee. The Interagency Environment Committee for Monitoring and Enforcement (Committee) is hereby established to coordinate United States efforts to monitor and enforce environmental obligations consistent with title VIII of the Act and, with respect to Mexico and Canada, to carry out assessments of their environmental laws and policies, to carry out monitoring actions with respect to the implementation and maintenance of their environmental obligations, and to request enforcement actions as provided for in section 814 of the Act.

Sec. 2. Membership. The Committee shall be composed of the United States Trade Representative (USTR) and representatives of the Department of State, the Department of the Treasury, the Department of Justice, the U.S. Fish and Wildlife Service in the Department of the Interior, the U.S. Forest Service and the Animal and Plant Health Inspection Service in the Department of Agriculture, the National Oceanic Atmospheric Administration in the Department of Commerce, U.S. Customs and Border Protection in the Department of Homeland Security, the Environmental Protection Agency, and the United States Agency for International Development, and representatives from other Federal agencies, as the President determines to be appropriate. The USTR shall serve as Chair. The Chair may invite representatives from other executive departments or agencies, as appropriate, to participate as members or observers. Each executive department, agency, and component represented on the Committee shall ensure that the necessary staff are available to assist their respective representatives in performing the responsibilities of the Committee.

Sec. 3. Committee Decision-making. The Committee shall endeavor to make any decision on an action or determination under sections 812, 813, and 814 of the Act by consensus, which shall be deemed to exist where no Committee member objects to the proposed action or determination. If the Committee is unable to reach a consensus on a proposed action or determination and the Chair determines that allotting further time will cause a decision to be unduly delayed, the Committee shall decide the matter by majority vote of its members.

Sec. 4. Implementing Measures. The heads of the executive departments and agencies set forth in section 2 of this order, in consultation with the Committee, may prescribe such regulations as are necessary to carry out the authorities of the respective department or agency as provided for under subtitle A of title VIII of the Act.

Sec. 5. General Provisions. (a) Each executive department and agency shall bear its own expenses incurred in connection with the Committee's functions described in sections 811, 812, 813, 814, and 816 of the Act.

(b) Nothing in this order shall be construed to impair or otherwise affect:

(i) the authority granted by law to an executive department or agency, or the head thereof; or

(ii) the functions of the Director of the Office of Management and Budget relating to budgetary, administrative, or legislative proposals.

(c) This order shall be implemented consistent with applicable law and subject to the availability of appropriations.

(d) This order is not intended to, and does not, create any right or benefit, substantive or procedural, enforceable at law or in equity by any party against the United States, its departments, agencies, or entities, its officers, employees, or agents, or any other person.

THE WHITE HOUSE,

February 28, 2020.

[FR Doc. 2020-04730

Filed 3-4-20; 11:15 am]

Billing code 3295-F0-P